DEPARTMENT OF DEFENSE

Department of the Air Force

Notice of Intent To Prepare an Environmental Impact Statement for Airspace Optimization for Readiness, Mountain Home Air Force Base, Idaho

AGENCY: Department of the Air Force, DoD.

ACTION: Notice of intent.

SUMMARY: The United States Air Force (USAF) is issuing this notice of intent to advise the public of its intent to prepare an Environmental Impact Statement (EIS) to evaluate potential environmental impacts associated with a proposed action on Airspace Optimization at Mountain Home Air Force Base (AFB), Idaho (ID).

DATES: The USAF intends to hold open-house style public scoping meetings from 5:00 p.m. to 8:00 p.m. in the following communities on the following dates: McDermitt, NV. Monday, November 4, 2019. McDermitt Combined Schools, 100 Olavarria Street, McDermitt, NV 89421. Boise, ID. Wednesday, November 6, 2019. The Riverside Hotel, 2900 West Chinden Boulevard, Boise, ID 83714. Grand View, ID. Thursday, November 7, 2019. Grand View Elementary School, 205 1st Street, Grand View, ID 83624. Mountain Home, ID. Friday, November 8, 2019, Mountain Home Junior High School, 1600 East 6th South Street, Mountain Home, ID 83647.

ADDRESSES: For questions regarding the Proposed Action or EIS development contact Grace Keesling at (210) 925-4534 or grace.keesling.1@us.af.mil. Comments will be accepted at any time during the environmental impact analysis process. However, to ensure the USAF has sufficient time to consider public input in the preparation of the Draft EIS, scoping comments should be submitted via the project website or to the address listed above by 25 November 2019. The project website (www.mountainhomeafbairspaceeis .com) provides more information on the EIS and can be used to submit scoping comments. Scoping comments can also be submitted to Mountain Home AFB Airspace EIS, c/o Leidos, 1740 East Fairview Ave., PMB 20, Meridian, ID 83642.

SUPPLEMENTARY INFORMATION: Mountain Home AFB managed airspace consists of six Military Operations Areas (MOAs) with airspace over portions of Idaho, Nevada, and Oregon and two USAF ranges in Idaho for inert weapons deployment. The Jarbidge North and Owyhee North MOAs have operational floors at 100 feet above ground level (AGL). The other four MOAs (Jarbidge South, Owyhee South, Paradise North, and Paradise South) have operational floors at 10,000 feet mean sea level (MSL) or 3,000 feet AGL, whichever is higher. Supersonic aircraft flights are permitted above 30,000 feet MSL within all the MOAs except over the Duck Valley Indian Reservation. Supersonic events above 10,000 feet AGL are permitted only in the Jarbidge North and Owyhee North MOAs.

Modifying this airspace will allow the USAF to provide a more realistic and efficient airspace training environment and improve aircrew proficiency in low-altitude tactics and radar masking using mountainous terrain for survival in a highly contested environment. The proposed airspace changes include: (1) changing low-altitude operational airspace floors that currently prohibit realistic low-altitude training (LOWAT) certification and maintenance training and negatively impact vertical capability and capacity, (2) providing consistent low-level operational floors for low-altitude flights to allow use of topographic features of mountainous terrain to mask the aircraft and safely neutralize or avoid technologically advanced threats, and (3) allowing aircrews to descend at supersonic speed and to fly at lower supersonic altitudes so they can realistically train on evasive maneuvers.

While only a small portion of overall flights, any low-altitude operations would be subject to specific limitations; however, these operations are essential for training and mission completion. Alternatives that address the training requirements will be defined as reasonable alternatives for analysis in the EIS. The analysis will also include the No Action Alternative which provides a benchmark to enable USAF decision-makers to compare the magnitude of the potential environmental effects of the Proposed Action. The Federal Aviation Administration is a Cooperating Agency for this EIS.

Scoping and Agency Coordination: To effectively define the full range of issues to be evaluated in the EIS, the USAF will solicit written comments from interested local, state, and federal agencies and elected officials, Native American tribes, interested members of the public, and others. Public scoping meetings will be held in the local communities beneath or adjacent to the airspace. The scheduled dates, times, locations, and addresses for the public scoping meetings are concurrently being published in local media.

Adriane Paris,
Acting Air Force Federal Register Liaison Officer.

[FR Doc. 2019-22512 Filed 10-15-19; 8:45 am]

BILLING CODE 5001-10-P